Title 3—

The President

Proclamation 8016 of May 12, 2006

National Defense Transportation Day and National Transportation Week, 2006

By the President of the United States of America

A Proclamation

On National Defense Transportation Day and during National Transportation Week, we thank all those who contribute to a sound transportation infrastructure that keeps our country moving, advances our economic growth, and strengthens our national defense.

President Dwight D. Eisenhower recognized the importance of having the world's most efficient and reliable transportation system. In a message to the Congress, he wrote of “a vast system of inter-connected highways criss-crossing the Country and joining at our national borders with friendly neighbors to the north and south.” Fifty years after he signed the Federal-Aid Highway Act of 1956, the Interstate Highway System is a vital part of America's transportation infrastructure.

My Administration remains committed to providing the American people with the best possible transportation system. In August 2005, I signed the Safe, Accountable, Flexible, and Efficient Transportation Equity Act: A Legacy for Users, to upgrade our Nation's network of roads, bridges, and mass transit systems, introduce new safety standards, and fund needed road improvements that will ease traffic congestion in communities across our country. My Administration is also increasing research in advanced transportation technologies that will improve our environment, help us end our reliance on foreign sources of energy, and strengthen our economic and national security.

Modern transportation also enables our Armed Forces to quickly deploy troops, move crucial supplies and equipment, and assist with emergency situations. Whether on land, over water, or in the air, our citizens rely on the safety and efficiency of our transportation systems to arrive at work, deliver goods and services, and travel with family and friends. America is grateful to the dedicated transportation professionals and military service members for their tireless efforts to make America's transportation network the best in the world.

To recognize the men and women who work in the transportation industry and who contribute to our Nation's well being and defense, the Congress, by joint resolution approved May 16, 1957, as amended (36 U.S.C. 120), has designated the third Friday in May each year as “National Defense Transportation Day,” and, by joint resolution approved May 14, 1962, as amended (36 U.S.C. 133), declared that the week during which that Friday falls be designated as “National Transportation Week.”

NOW, THEREFORE, I, GEORGE W. BUSH, President of the United States of America, do hereby proclaim Friday, May 19, 2006, as National Defense Transportation Day and May 14 through May 20, 2006, as National Transportation Week. I encourage all Americans to learn how our modern transportation system contributes to the security of our citizens and the prosperity of our country and to celebrate these observances with appropriate ceremonies and activities.

IN WITNESS WHEREOF, I have hereunto set my hand this twelfth day of May, in the year of our Lord two thousand six, and of the Independence of the United States of America the two hundred and thirtieth.

B

[FR Doc. 06-4664

Filed 5-16-06; 8:45 am]

Billing code 3195-01-P